DEPARTMENT OF HEALTH AND HUMAN SERVICES

National Institutes of Health

Center for Scientific Review Amended; Notice of Meeting

Notice is hereby given of a change in the meeting of the Center for Scientific Review Special Emphasis Panel, March 29, 2013, 01:00 p.m. to March 29, 2013, 05:00 p.m., National Institutes of Health, 6701 Rockledge Drive, Bethesda, MD, 20817 which was published in the Federal Register on March 12, 2013, 78 FR Pg. 15729.

The meeting with be held on April 4, 2013 instead of March 29, 2013 at 1:00 p.m. and will end at 5:00 p.m. The meeting location remains the same. The meeting is closed to the public.

Dated: March 29, 2013.
Carolyn A. Baum,
Program Analyst, Office of Federal Advisory Committee Policy.

[FR Doc. 2013-07899 Filed 4-4-13; 8:45 am]

BILLING CODE 4140-01-P